DEPARTMENT OF HOMELAND SECURITY

[Docket No. DHS 2016-0060]

National Protection and Programs Directorate

AGENCY: Office of Infrastructure Protection, National Protection and Programs Directorate, DHS.

ACTION: Study Participation; notice for voluntary participation regarding Positioning, Navigation, and Timing Study.

SUMMARY: The purpose of this notice is to inform the public that the Departmenet of Homeland Security (DHS) Science and Technology Directorate (S&T) and DHS National Protection and Programs Directorate (NPPD), Office of Infrastructure Protection (IP) are engaging critical infrastructure sector owners and operators in a study to define and validate current and future positioning, navigation, and timing (PNT) requirements for critical infrastructure. This study will be coordinated with the Department of Transportation, which is establishing PNT requirements for the transportation sector. The requirements defined and validated by the study will support key decisions in the development of complementary PNT solution(s).

Accurate PNT is essential for critical infrastructures across the country. Currently, the Global Positioning System (GPS) is the primary source of PNT information. However, GPS signals are susceptible to both unintentional and intentional disruption leaving critical infrastructure vulnerable to operational impacts from disruptions. Due to the essential need for precise timing within many of the critical infrastructure sectors, DHS will initially focus the study on timing requirements within the electricity and wireless communications sectors. Subsequently, DHS will engage additional sectors and expand the study to include positioning and navigation requirements.

FOR FURTHER INFORMATION CONTACT: Organizations or individuals interested in providing PNT requirements or other information pertaining to the study should contact the points of contact below by February 28, 2017: John Dragseth, NPPD, DHS, John.Dragseth@dhs.gov, 703-235-9467; or Sarah Mahmood, S&T, DHS, Sarah.Mahmood@hq.dhs.gov,202-254-6721.

Dated: September 15, 2016.
Sarah Ellis Peed,
Director, Strategy, Policy & Budget, Office of Infrastructure Protection.

[FR Doc. 2016-22884 Filed 9-21-16; 8:45 am]

BILLING CODE 9110-9P-P